DEPARTMENT OF ENERGY

Federal Energy Regulatory Commission

[Docket No. TM99-1-8-002]

South Georgia Natural Gas Company; Notice of Fuel Adjustment Filing

April 5, 2000.

Take notice that on March 31, 2000, South Georgia Natural Gas Company (South Georgia) made a filing to reconcile its fuel retention volumes for a metering anomaly that resulted in negative Lost and Unaccounted For volumes for the period May 1998 to September 1998. South Georgia proposes to make refunds to its customers to resolve this metering anomaly.

South Georgia states that copies of the filing were served upon all parties listed on the official service list compiled by the Secretary in this proceeding, other interested parties and affected state commissions.

Any person desiring to protest said filing should file a protest with the Federal Energy Regulatory Commission, 888 First Street, NE, Washington, DC 20426, in accordance with Section 385.211 of the Commission's Rules and Regulations. All such protests must be filed on or before April 12, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-8912 Filed 4-10-00; 8:45 am]

BILLING CODE 6717-01-M